DEPARTMENT OF DEFENSE

Department of the Air Force

[Docket ID: USAF-2022-HQ-0006]

Submission for OMB Review; Comment Request

AGENCY: Department of the Air Force (DAF), Department of Defense (DoD).

ACTION: 30-Day information collection notice.

SUMMARY: The DoD has submitted to OMB for clearance the following proposal for collection of information under the provisions of the Paperwork Reduction Act.

DATES: Consideration will be given to all comments received by October 11, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Department of the Air Force Integrated Response Co-Location Pilot; OMB Control Number 0701-IRCP.

Type of Request: New.

Number of Respondents: 9,372.

Responses per Respondent: 2.

Annual Responses: 18,744.

Average Burden per Response: 5 minutes.

Annual Burden Hours: 1,562 hours.

Needs and Uses: The Integrated Response Co-Location Pilot seeks to improve DAF's response to and outcomes for victims and survivors of sexual assault, sexual harassment, domestic violence, stalking, and cyber harassment by piloting co-location of identified response services. Co-locating these victim support services will increase support, awareness, and accessibility for victims/survivors. To evaluate the effectiveness of an organizational change to victim services, a survey will be conducted at select installations with victims/survivors of interpersonal violence, Airmen and Guardians, command-team members, and helping agency members. The Integrated Response Office pilot program will assess how DAF is identifying and closing the gap between Victims/Survivors and Command Teams' reality and perceptions of access to quality support.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: September 2, 2022.
Aaron T. Siegel,
Alternate OSD Federal Register Liaison Officer, Department of Defense.

[FR Doc. 2022-19414 Filed 9-7-22; 8:45 am]

BILLING CODE 5001-06-P